DEPARTMENT OF TRANSPORTATION

Federal Aviation Administration

Aviation Rulemaking Advisory Committee

AGENCY: Federal Aviation Administration (FAA), DOT.

ACTION: Notice of withdrawal of task assignment to the Aviation Rulemaking Advisory Committee (ARAC).

SUMMARY: The FAA has withdrawn a task assigned to the Aviation Rulemaking Advisory Committee (ARAC) concerning all weather operations. This notice is to inform the public of the FAA's decision to withdraw this task.

FOR FURTHER INFORMATION CONTACT: Brenda D. Courtney, Manager, Aircraft and Airport Rules Division, Office of Rulemaking, Federal Aviation Administration, 800 Independence Avenue SW., Washington, DC 20591, brenda.courtney@faa.gov.

SUPPLEMENTARY INFORMATION:

Background

The FAA established ARAC to provide advice and recommendations to the FAA Administrator on the FAA's rulemaking activities. This includes obtaining advice and recommendations on the FAA's commitments to harmonize Title 14 of the Code of Federal Regulations (14 CFR) with its partners in Europe and Canada.

On November 26, 2003, the FAA published a notice in the Federal Register (68 FR 66524) informing the public of ARAC's acceptance of a new task, and its decision to assign the task to the All Weather Operations Harmonization Working Group. Over the years since assigning this task to ARAC, the working group has provided support to the FAA, other civil aviation authorities and the International Civil Aviation Organization (ICAO). This collaborative effort has brought about standardized and harmonized systems and processes such as the Enhanced Flight Vision System and use of radar altimeters in Europe. The working group has also provided support to the ICAO Operations Panel and provided updates to the All Weather Operations Manual for ICAO. These efforts are important to the FAA and other civil aviation authorities; however, they are not tasks typically assigned to ARAC. As such, the FAA has decided to continue these efforts under a different venue. We anticipate establishing a separate committee charged to work collaboratively among the international aviation community, the FAA and other civil aviation authorities to ensure regulatory standards and policies related to all weather operations activities are standardized and harmonized in the interest of safety, and global economic efficiencies.

Withdrawal of the all weather operations task completes the activities that were assigned to ARAC's Air Carrier Operations Technical Subject Area. Because the FAA does not intend to assign any additional tasks to this technical area, the Air Carrier Operations Technical Subject Area is closed. The FAA has vetted the withdrawal of this task and our decision to close the Air Carrier Operations Technical Subject Area with the ARAC.

Issued in Washington, DC, on February 13, 2012.
Pamela Hamilton-Powell,
Executive Director, Aviation Rulemaking Advisory Committee.

[FR Doc. 2012-3891 Filed 2-22-12; 8:45 am]

BILLING CODE 4910-13-P